DEPARTMENT OF COMMERCE

International Trade Administration

South East Asia Telecommunications Matchmaker; Recruitment and Selection of Private Sector Participants; Overseas Trade Missions

AGENCY: International Trade Administration, Department of Commerce.

ACTION: Notice.

SUMMARY: The Department of Commerce invites U.S. companies to participate in the following overseas trade missions that they also explain at the following website: http://www.ita.doc.gov/doctm. For a comprehensive description of the trade mission, obtain a copy of the mission statement from the project officer listed below. The recruitment and selection of private sector participants will be conducted according to the Statement of Policy Governing Department of Commerce Overseas Trade Missions announced by Secretary Daley on March 3, 1997.

Telecommunications Matchmaker

South East Asia

November 13-17, 2000

FOR FURTHER INFORMATION CONTACT: Molly Costa at the Department of Commerce in Washington, DC, Telephone number: (202) 482-0692 or Fax: (202) 482-0178.

John Klingelhut,
Director, Office of Public and Private Initiatives.

[FR Doc. 00-13502 Filed 5-30-00; 8:45 am]

BILLING CODE 3510-FP-M